DEPARTMENT OF LABOR

Employment and Training Administration

[TA-W-52,345]

SPX Dock Products, A Division of SPX Corporation, Milwaukee, WI; Notice of Termination of Investigation

Pursuant to section 221 of the Trade Act of 1974, as amended, an investigation was initiated on July 18, 2003, in response to a petition filed by the International Union of Teamsters, “General” Local Union, No. 200, on behalf of workers at SPX Dock Products, a division of SPX Corporation, Milwaukee, Wisconsin.

The petitioner has requested that the petition be withdrawn. Consequently, further investigation would serve no purpose, and the investigation has been terminated.

Signed at Washington, DC, this 13th day of August, 2003.
Linda G. Poole,
Certifying Officer, Division of Trade Adjustment Assistance.

[FR Doc. 03-22277 Filed 8-29-03; 8:45 am]

BILLING CODE 4510-30-P